DEPARTMENT OF TRANSPORTATION

Office of the Secretary

Aviation Proceedings, Agreements Filed the Week Ending October 31, 2003

The following Agreements were filed with the Department of Transportation under the provisions of 49 U.S.C. Sections 412 and 414. Answers may be filed within 21 days after the filing of the application.

Docket Number: OST-2003-16416.

Date Filed: October 28, 2003.

Parties: Members of the International Air Transport Association.

Subject: PSC/Reso/119 dated October 14, 2003, Expedited Resolutions and Recommended Practices (RPs) r1-4, Intended effective date: January 1, 2004.

Andrea M. Jenkins,
Program Manager, Docket Operations, Federal Register Liaison.

[FR Doc. 03-28347 Filed 11-10-03; 8:45 am]

BILLING CODE 4910-62-P